DEPARTMENT OF COMMERCE

International Trade Administration

Meeting of the United States Travel and Tourism Advisory Board

AGENCY: International Trade Administration, U.S. Department of Commerce.

ACTION: Notice of an open meeting.

SUMMARY: This notice sets forth the schedule and agenda for an open meeting of the United States Travel and Tourism Advisory Board (Board). The agenda may change to accommodate Board business. The final agenda and address of the meeting will be posted at least one week in advance of the meeting on the Department of Commerce Web site for the Board at http://tinet.ita.doc.gov/TTAB/TTAB_Home.html.

DATES: July 13, 2012; 8:30 a.m.-10:30 a.m. Eastern Daylight Time (EDT).

ADDRESSES: The meeting will be held in the Detroit, Michigan metropolitan area. The exact address of the meeting will be posted on the Department of Commerce Web site for the Board (http://tinet.ita.doc.gov/TTAB/TTAB_Home.html) at least one week in advance of the meeting. If you wish to receive an email with the location of the meeting, please send an email with the subject “7/13 TTAB Meeting RSVP” to oacie@trade.gov.

FOR FURTHER INFORMATION CONTACT: Jennifer Pilat, the United States Travel and Tourism Advisory Board, Room 4043, 1401 Constitution Avenue NW., Washington, DC 20230, telephone: 202-482-4501, email: jennifer.pilat@trade.gov.

SUPPLEMENTARY INFORMATION:

Background: The Board was re-chartered in August 2011, to advise the Secretary of Commerce on matters relating to the U.S. travel and tourism industries.

Topics to be considered: During the meeting, the Board will discuss the subcommittee draft actions plans that outline the work each subcommittee intends to examine during this term. The Board has four subcommittees: Travel Facilitation; Infrastructure and Sustainability; Business Climate; and Advocacy. The Board will additionally focus on research and data issues within the travel and tourism industry. Other U.S. government representatives from the Departments of State, Interior and Transportation may also provide updates on their respective agencies' work relating to the U.S. travel and tourism industries and the Board will be provided an update on the work of the Task Force on Travel and Competitiveness (created by Executive Order 13597, Establishing Visa and Foreign Visitor Processing Goals and the Task Force on Travel and Competitiveness).

Public Participation: The meeting will be open to the public and will be physically accessible to people with disabilities. Although the venue is still being finalized, seating will be limited and available on a first come, first served basis. Because of building security and logistics, all attendees must pre-register no later than 5 p.m. Eastern Daylight Time (EDT) on Friday, July 6, 2012 with Jennifer Pilat, the United States Travel and Tourism Advisory Board, Room 4043, 1401 Constitution Avenue NW., Washington, DC 20230, telephone 202-482-4501, oacie@trade.gov. Please specify any requests for sign language interpretation, other auxiliary aids, or other reasonable accommodation no later than 5 p.m. EDT on July 6, 2012, to Jennifer Pilat at the contact information above. Last minute requests will be accepted, but may be impossible to fill.

No time will be available for oral comments from members of the public attending the meeting. Any member of the public may submit pertinent written comments concerning the Board's affairs at any time before or after the meeting. Comments may be submitted to Jennifer Pilat at the contact information indicated above. To be considered during the meeting, comments must be received no later than 5 p.m. EDT on July 6, 2012, to ensure transmission to the Board prior to the meeting. Comments received after that date will be distributed to the members but may not be considered at the meeting. Copies of Board meeting minutes will be available within 90 days of the meeting.

Dated: June 25, 2012.
Jennifer Pilat,
Executive Secretary, United States Travel and Tourism Advisory Board.

[FR Doc. 2012-15867 Filed 6-27-12; 8:45 am]

BILLING CODE 3510-DR-P